CONSUMER PRODUCT SAFETY COMMISSION

[Docket No. CPSC-2010-0088]

Agency Information Collection Activities; Proposed Collection; Comment Request; Durable Nursery Products Exposure Survey

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information and to allow 60 days for public comment in response to the notice. This notice solicits comments on a draft survey regarding ownership and use characteristics of durable infant or toddler products.

DATES: Submit written or electronic comments on the collection of information by October 18, 2010.

ADDRESSES: You may submit comments, identified by Docket No. CPSC-2010-0088, by any of the following methods:

Electronic Submissions

Submit electronic comments in the following way:

Federal eRulemaking Portal: http://www.regulations.gov. Follow the instructions for submitting comments. To ensure timely processing of comments, the Commission is no longer accepting comments submitted by electronic mail (e-mail) except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov. A copy of the draft survey is available at http://www.regulations.gov under Docket No. CPSC-2010-0088, Supporting and Related Materials.

FOR FURTHER INFORMATION CONTACT: Linda L. Glatz, Division of Policy and Planning, Office of Information Technology, Consumer Product Safety Commission, 4330 East West Highway, Bethesda, MD 20814, (301) 504-7671. lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

On August 14, 2008, the Consumer Product Safety Improvement Act (“CPSIA”) (Pub. L. 110-314) was enacted. Section 104 of the CPSIA (referred to as the “the Danny Keysar Child Product Safety Notification Act”) (15 U.S.C. 2056a), requires the Commission to study and develop safety standards for infant and toddler products. Such durable infant and toddler products include, but are not limited to: Full-size cribs and non full-size cribs; toddler beds; high chairs, booster chairs, and hook-on chairs; bath seats; gates and other enclosures for confining a child; play yards; stationary activity centers; infant carriers; strollers; walkers; swings; and bassinets and cradles. The Commission is required to evaluate the currently existing voluntary standards for durable infant or toddler products and promulgate a mandatory standard substantially the same as, or more stringent than, the applicable voluntary standard.

In evaluating the current voluntary standards, the CPSC staff requires certain additional data to assess the potential future impacts of the CPSIA mandatory efforts on durable infant and toddler products. The draft Durable Nursery Products Exposure Survey (“DNPES” or “survey”) is a national probability sample of households with children five years old and under designed to determine the prevalence of durable infant and toddler product ownership in households, as well as the frequency and manner of use of such products. In particular, the survey will seek information regarding ownership characteristics, the life cycle of the products, and consumer behaviors and perceptions regarding such products. The survey will gather information on the characteristics and usage patterns of 24 categories of durable infant or toddler products and solicit information on accidents or injuries associated with those products. The information collected from the DNPES will help inform the Commission's evaluation of consumer products and product use by providing insight and information into consumer perceptions and usage patterns. In addition to assisting the Commission's rulemaking efforts, such information will also support ongoing voluntary standards activities in which the Commission participates, compliance and enforcement efforts as well as information and education campaigns. The data also will help identify consumer safety issues that need additional research. Understanding better how these products are used by consumers will help the Commission address potential hazards and assess the sufficiency of current voluntary standards.

Before the mail paper screener is sent out, a small group of respondents (37) from different backgrounds (including both English and Spanish speakers) will be asked to participate in cognitive testing (for the telephone survey) or usability testing (for the Web version of the survey) to provide extensive feedback regarding the clarity of specific questions. Results of the cognitive and usability testing will be used to revise the survey instruments, but will not be included in the survey results for the main data collection. Following the testing, a mail paper screener will be sent to 16,667 families to determine whether sampled respondents are eligible for full DNPES participation. Eligible respondents who have children aged 0-5 in their household will have Web and computer-assisted telephone interviewing (“CATI”) survey options for completing the full extended DNPES. The DNPES will include approximately 24 categories with questions about different infant or toddler products, but each respondent will be limited to a maximum of four categories. The CATI and Web programs will also ensure that each respondent's questions are limited to the portions of the survey for which they have been selected.

We estimate the burden of this collection of information as follows. Each cognitive interview or usability test will take approximately one hour for an estimated total of 37 burden hours. The initial mail paper screener for the main data collection will be sent to approximately 16,667 households and will take approximately five minutes (.0833 hours) to complete. An estimated 2,000 eligible repondants will be selected for telephone extended interviews (1,500 respondents) or Web surveys (500 respondents) and each will take approximately 30 minutes (.5 hours) to complete. The total estimated burden for all respondents is 2,425.92 hours, rounded up to 2,426 hours. The total cost to the respondents for the total burden is estimated to be $66,520.92, rounded up to $66,521, based on an hourly rate of $27.42 (all workers in private industry in Table 9 of the December 2009 Employer Costs for Employee Compensation, Bureau of Labor Statistics).

The estimated cost to the Federal Government is $1,026,763. Since the study extends over three years, however, the estimated annualized cost of the information collection requirements to the government is $342,254.33, rounded down to $342,254, for the three year period. This sum includes contractors to implement and conduct the DNPES survey ($729,093), 21 staff months ($297,670) at an average level of GS-14 step 5 ((($119,238/.701) ÷ 12 months) × 21 months), using a 70.1 percent ratio of wages and salary to total compensation from Table 1 of the December 2009 Employer Costs for Employee Compensation, published on the Bureau of Labor Statistics.

Dated: August 13, 2010.
Todd A. Stevenson,
Secretary, Consumer Product Safety Commission.

[FR Doc. 2010-20596 Filed 8-18-10; 8:45 am]

BILLING CODE 6355-01-P